DEPARTMENT OF HEALTH AND HUMAN SERVICES

National Institutes of Health

The National Institutes of Health FY 2016-2020 Strategic Plan To Advance Research on the Health and Well-Being of Sexual and Gender Minorities (SGM) Request for Comments

SUMMARY: The National Institutes of Health (NIH) is developing a strategic plan to guide the agency's efforts and priorities in SGM research over the next five years (2016-2020). The purpose of this notice is to seek input from researchers in academia and industry, health care professionals, patient advocates and health advocacy organizations, scientific or professional organizations, public agencies, and other interested members of the public about proposed goals and objectives for advancing research and other research-related activities with SGM populations. Specific organizations, such as advocacy or professional groups are encouraged to submit a single response that reflects the views of their organization and membership as a whole.

DATES: To ensure consideration of your comments, responses must be received by November 2, 2015.

ADDRESSES: Responses to this notice must be submitted electronically by email to sgmhealthresearch@od.nih.gov.

FOR FURTHER INFORMATION CONTACT: Dr. Karen Parker, Division of Program Coordination, Planning, and Strategic Initiatives, Office of the Director, NIH, Building 1, Room 257, 1 Center Drive, Bethesda, MD 20892, Telephone: 301-451-2055, Email: karen.parker@nih.gov.

SUPPLEMENTARY INFORMATION:

Background

The NIH developed this Strategic Plan to Advance Research on the Health and Wellbeing of Sexual and Gender Minorities (SGM) (http://edi.nih.gov/sgm/research/sgm-strategic-plan.pdf) after substantive analysis and integration of portfolio analyses, community input, inter- and intra-agency collaborations, and recommendations from the NIH-commissioned Institute of Medicine report, The Health of Lesbian, Gay, Bisexual, and Transgender (LGBT) People: Building a Foundation for Better Understanding, released in 2011.

The NIH SGM Strategic Research Plan promotes and supports the advancement of basic, clinical, and behavioral and social sciences research to improve the health of people whose sexual orientations, gender identities/expressions, and/or reproductive development vary from traditional, societal, cultural, or physiological norms. In each of these areas, the NIH will coordinate with the NIH intramural and extramural program directors and researchers to ensure the advancement of SGM-focused research efforts.

The NIH anticipates that this 5 year plan, which will cover the years 2016-2020, will provide the NIH with a framework for progress in this area, and that the research that results from this plan will lay a foundation for improved health and well-being amongst a group of diverse SGM individuals whose health needs have not traditionally received strong attention from the research community.

Information Requested

This notice invites public comment and input on the proposed goals and objectives of the strategic plan. We ask that you consider cross-cutting research opportunities, and/or needs that could have the greatest benefit for advancing SGM health.

To inform implementation of the SGM strategic plan, input is being sought on each of the areas identified below.

(1) Specific priority areas of research in SGM populations.

(2) Goals and objectives outlined in the plan.

(3) Any additional comments or information you think would be useful to the NIH about the proposed 2016-2020 Strategic Plan to Advance Research on the Health and Well-being of Sexual and Gender Minorities.

To ensure consideration of your comments, responses must be received by November 2, 2015.

General Information

All of the following fields in the response are optional and voluntary. Any personal identifiers will be removed when responses are compiled. Proprietary, classified, confidential, or sensitive information should not be included in your response. This notice is for planning purposes only and is not a solicitation for applications or an obligation on the part of the United States (U.S.) government to provide support for any ideas identified in response to it. Please note that the U.S. government will not pay for the preparation of any comment submitted or for its use of that comment.

Please indicate if you are one of the following: Grantee, administrator, student, patient advocate, Dean/or Institutional administrator, NIH employee, or other. If you are an investigator, please indicate your career level and main area of research interest, including whether the focus is clinical or basic. If you are a member of a particular advocacy or professional organization, please indicate the name and primary focus of the organization (e.g., research support, patient care, etc.) and whether you are responding on behalf of your organization (if yes, please indicate your position within the organization). Please provide your name and email address.

Privacy Act Notification Statement: We are requesting your comments for the 2016-2020 National Institutes of Health Sexual and Gender Minority Strategic Plan. The information you provide may be disclosed to the NIH senior staff and those serving on the SGM Research Coordinating Committee and to contractors working on our behalf. Submission of this information is voluntary. However, the information you provide will help to categorize responses by scientific area of expertise, organizational entity or professional affiliation.

Collection of this information is authorized under 42 U.S.C. 203, 24 1, 2891-1 and 44 U.S.C. 310 I and Section 30 l and 493 of the Public Health Service Act regarding the establishment of the National Institutes of Health, its general authority to conduct and fund research and to provide training assistance, and its general authority to maintain records in connection with these and its other functions.

Dated: September 24, 2015.
Lawrence A. Tabak,
Deputy Director, National Institutes of Health.

[FR Doc. 2015-25026 Filed 9-30-15; 8:45 am]

BILLING CODE 4140-01-P